DEPARTMENT OF TRANSPORTATION

Federal Aviation Administration

Notice of Intent To Rule on Application To Impose and To Impose and Use the Revenue From a Passenger Facility Charge (PFC) at Hartsfield Atlanta International Airport, Atlanta, GA

AGENCY: Federal Aviation Administration (FAA), DOT.

ACTION: Notice of intent to rule on application.

SUMMARY: The FAA proposes to rule and invites public comment on the application to impose and to impose and use the revenue from a PFC at Hartsfield Atlanta International Airport under the provisions of the Aviation Safety and Capacity Expansion Act of 1990 (Title IX of the Omnibus Budget Reconciliation Act of 1990) (Pub. L. 101-508)) and Part 158 of the Federal Aviation Regulations (14 CFR part 158).

DATES: Comments must be received on or before October 7, 2002.

ADDRESSES: Comments on this application may be mailed or delivered in triplicate to the FAA at the following address: Atlanta Airports District Office, 1701 Columbia Ave., Suite 2-260, College Park, Georgia, 30337-2747.

In addition, one copy of any comments submitted to the FAA must be mailed or delivered to Arthur L. Bacon, Director of Finance of the City of Atlanta, Department of Aviation at the following address: City of Atlanta, Department of Aviation, P.O. Box 20509, Atlanta, Georgia 30320-2509.

Air carriers and foreign air carriers may submit copies of written comments previously provided to the City of Atlanta, Department of Aviation under section 158.23 of part 158.

FOR FURTHER INFORMATION CONTACT: Terry R. Washington, P.E, Program Manager, Atlanta Airports District Office, 1701 Columbia Ave., Suite 2-260, College Park, Georgia, 30337-2747, Telephone Number 404-305-7143. The application maybe reviewed in person at this same location.

SUPPLEMENTARY INFORMATION: The FAA proposes to rule and invites public comment on the application to impose and to impose and use the revenue from a PFC at Hartsfield Atlanta International Airport under the provisions of the Aviation Safety and Capacity Expansion Act of 1990 (Title IX of the Omnibus Budget Reconciliation Act of 1990) (Pub. L. 101-508) and Part 158 of the Federal Aviation Regulations (14 CFR part 158).

On August 28, 2002, the FAA determined that the application to impose and to impose and use the revenue from a PFC submitted by The City of Atlanta was substantially complete within the requirements of section 158.25 of Part 158. The FAA will approve or disapprove the application, in whole or in part, no later than December 12, 2002. The following is a brief overview of the application.

PFC Application No.: 02-03-C-00-ATL.

Level of proposed PFC: $4.50.

Proposed charge effective date: May 1, 2005.

Proposed charge expiration date: January 2022.

Total estimated net PFC revenue: $1,280,997,615.

Brief Description of proposed project(s):

Construction of 5th Runway (Impose and use);

Taxiway “L” Extension (Impose and use);

Taxiway Construction and Intersection Upgrades (Impose and use);

Airfield Pavement Replacement (Impose and use);

Airfield Lighting Systems (Impose and use);

New End Around Taxiway (Impose only);

Approach Clearance and Landscape Safety (Impose and use);

Surface Movement Guidance System (Impose and use);

Consolidated Rental Car Facility (CONRAC) Automated People Mover System (Impose only);

Airport Access Roadway (Impose only).

Class or classes or air carriers which the public agency has requested not be required to collect PCFs: Air Taxi/Commercial Operators (ATCO) when enplaning revenue passengers in limited, irregular, special service air taxi/commercial operations such as air ambulance services, student instruction, non-stop sightseeing flights that begin and end at the airport and are concluded within a 25 mile radius of the airport.

Any person may inspect the application in person at the FAA office listed above under FOR FURTHER INFORMATION CONTACT.

In addition, any person may, upon request, inspect the application, notice and other documents germane to the application in person at the City of Atlanta's Department of Aviation.

Issued in College Park, Georgia, on August 28, 2002.
Embree C. Hunnicutt, Jr.,
Acting Manager, Atlanta Airports District Office, Southern Region.

[FR Doc. 02-22626 Filed 9-4-02; 8:45 am]

BILLING CODE 4910-13-M